Proclamation 8762 of November 30, 2011

World AIDS Day, 2011

By the President of the United States of America

A Proclamation

On World AIDS Day, 30 years after the first cases of HIV/AIDS were reported, we stand with the individuals and communities affected by HIV and recommit to progress toward an AIDS-free generation.

My Administration is taking action to turn the corner on the HIV/AIDS pandemic by investing in research that promises new and proven methods to prevent infection and better therapies for people living with HIV. In the past year, the National Institutes of Health has reported important progress. We now know that treatment of HIV not only improves clinical outcomes, but can also dramatically reduce the risk of transmission. Studies on the use of antiretroviral medications to prevent infection of HIV-negative individuals show promising results. And research is ongoing to devise new prevention methods that may one day offer innovative ways to prevent the spread of HIV, like microbicides that can curb the risk of infection in women. By pursuing the next breakthrough treatment in the fight against HIV, continuing research to develop a vaccine, and incorporating new scientific tools into our programs, we are taking important steps toward an AIDS-free generation.

To combat the HIV epidemic in the United States, we are implementing the first comprehensive National HIV/AIDS Strategy in our country’s history, which calls for strong, coordinated policy initiatives, enhanced HIV/AIDS education, collaboration across the Federal Government, and robust engagement with individuals, communities, and businesses across America. As part of these efforts, we are embracing the best science available to prevent new HIV infections, and we are testing new approaches to integrating housing, prevention, care, and substance abuse and mental health services related to HIV/AIDS. We are implementing the Affordable Care Act, which mandates new consumer protections and new options for purchasing health insurance for all Americans by 2014, including those with HIV. We are also striving to secure employment opportunities for people living with HIV by working to end discrimination based on HIV status.

To address the global HIV pandemic, we are working with nations around the world to advance comprehensive prevention efforts and provide lifesaving medicine to millions of people living with HIV. We are integrating cutting-edge science into the President’s Emergency Plan for AIDS Relief (PEPFAR) that will do even more to prevent new HIV infections, including more effective drug regimens to prevent mother-to-child HIV transmission and low-cost approaches like voluntary medical male circumcision. When combined with other proven approaches, such as condoms, HIV testing and counseling, and programs to support behavior change, these advances can dramatically reduce HIV incidence and save lives. As we move forward, we will maintain our commitment to rigorously measuring the impact of these approaches, revising them appropriately, and incorporating new ideas and technologies as they become available.

Recognizing that a coordinated strategy is essential to our success, we are partnering with a wide variety of stakeholders to promote HIV/AIDS awareness, prevention, and treatment. Here at home, States, tribes, territories, and local governments are vital partners in implementing the National HIV/AIDS Strategy, and we are joined by a host of public and private supporters and collaborators in PEPFAR. Partnerships with corporations, foundations, faith-based institutions, academic institutions, and other organizations are critically important to the fight against HIV, and we will work to strengthen these ties in the years ahead.

At this pivotal time in the worldwide response to HIV, the United States is preparing to welcome the global community to Washington, D.C., for the 19th International AIDS Conference in July 2012. We look forward to working with and learning from people living with HIV, clinicians, researchers, practitioners, and advocates from across the globe. On this World AIDS Day, let us reflect on the people we have lost and those we hold dear who are living with or affected by HIV/AIDS. And as we pay tribute to the past and current heroes in the struggle against this disease, let us recommit to bringing an end to this tragic pandemic and pursuing an AIDS-free generation.

NOW, THEREFORE, I, BARACK OBAMA, President of the United States of America, by virtue of the authority vested in me by the Constitution and the laws of the United States do hereby proclaim December 1, 2011, as World AIDS Day. I urge the Governors of the States and the Commonwealth of Puerto Rico, officials of the other territories subject to the jurisdiction of the United States, and the American people to join me in appropriate activities to remember those who have lost their lives to AIDS and to provide support and comfort to those living with this disease.

IN WITNESS WHEREOF, I have hereunto set my hand this thirtieth day of November, in the year of our Lord two thousand eleven, and of the Independence of the United States of America the two hundred and thirty-sixth.

[FR Doc. 2011-31420

Filed 12-5-11; 8:45 am]

Billing code 3295-F2-P